DEPARTMENT OF ENERGY

Federal Energy Regulatory Commission

[Project No. 12198-001, Project No. 12213-001, Project No. 12274-001, Project No. 12297-001, Project No. 12309-001, Project No. 12369-001, Project No. 12535-001]

Green Point Hydro, LLC; Hugo Hydro, LLC; Meyers Hydro, LLC; Heflin Hydro, LLC; Ohio River L&D 52 Hydro, LLC; MSR 5 Hydro, LLC; Easton Diversion Dam Hydro, LLC; Notice of Surrender of Preliminary Permits

April 19, 2006.

Take notice that the permittees for the subject projects have requested voluntary surrender of their preliminary permits.

Project No. | Project name | Stream | State | Expiration date
12198-001 | Green Point Upper Dam | Green Point Creek | OR | 11-30-2007
12213-001 | Hugo Dam Hydroelectric | Kiamichi River | OK | 10-31-2006
12274-001 | John T. Meyers L&D | Ohio River | IN | 11-30-2007
12297-001 | Heflin L&D | Tombigbee River | AL | 11-30-2007
12309-001 | Ohio River L&D #52 | Ohio River | KY | 11-30-2007
12369-001 | Mississippi River L&D #5 | Mississippi River | WI | 11-30-2007
12535-001 | Easton Diversion Dam | Yakima River | WA | 2-29-2008

The permits shall remain in effect through the thirtieth day after issuance of this notice unless that day is Saturday, Sunday, or a holiday as described in 18 CFR 385.2007, in which case each permit shall remain in effect through the first business day following that day. New applications involving these project sites, to the extent provided for under 18 CFR part 4, may be filed on the next business day.

Magalie R. Salas,
Secretary.

[FR Doc. E6-6238 Filed 4-25-06; 8:45 am]

BILLING CODE 6717-01-P